DEPARTMENT OF AGRICULTURE

Natural Resources Conservation Service

Notice of Proposed Change to Section 4 of the Field Office Technical Guide

AGENCY: Natural Resources Conservation Service (NRCS), U.S. Department of Agriculture.

ACTION: Notice of availability of proposed changes in the Field Office Technical Guide. NRCS is also seeking review and comments to the proposed changes.

SUMMARY: It has been determined by the NRCS State Conservationist for Washington State, that changes must be made in the Field Office Technical Guide specifically for the following practice standards:

• Nutrient Management, practice code number 590

• Waste Utilization, practice code number 633

• Interim standard; Grass Buffer Strips, practice code number 741

Proposed changes are to include new and improved technology.

DATES: Comments will be received for a period of 30 days following the publication date of this notice.

FOR FURTHER INFORMATION CONTACT: Leonard Jordan, State Conservationist, Natural Resources Conservation Service, 316 West Boone Avenue, Suite 450, Spokane, WA, 99201-2348; phone (509) 323-2900; or FAX (509) 323-2909.

SUPPLEMENTARY INFORMATION: If you would like to review any of the practice standards mentioned, contact Leonard Jordan at the above address or phone number to receive a copy of the draft standards.

For the next 30 days the NRCS will receive comments relative to the proposed changes.

Following that period a determination will be made by the NRCS regarding disposition of those comments and a final determination of change will be made to the subject standards.

Dated: May 7, 2001.
Leonard Jordan,
State Conservationist, Washington.

[FR Doc. 01-14837 Filed 6-12-01; 8:45 am]

BILLING CODE 3410-16-P